DEPARTMENT OF LABOR

Occupational Safety and Health Administration

29 CFR Parts 1910, 1917, and 1918

[Docket No. OSHA-2025-0011]

RIN 1218-AD62

Cotton Dust

AGENCY: Occupational Safety and Health Administration (OSHA), Labor.

ACTION: Proposed rule; request for comments.

SUMMARY: This proposed rule revises some substance-specific respirator requirements to allow different types of respirators to be used under OSHA's Cotton Dust standard and better aligns this standard with OSHA's Respiratory Protection standard.

DATES: Comments and other information, including requests for a hearing, must be received on or before September 2, 2025.

Informal public hearing: OSHA will schedule an informal public hearing on the rule if requested during the comment period. If a hearing is requested, the location and date of the hearing, procedures for interested parties to notify the agency of their intention to participate, and procedures for participants to submit their testimony and documentary evidence will be announced in the Federal Register.

ADDRESSES:

Written comments: You may submit comments and attachments, identified by Docket No. OSHA-2025-0011, electronically at https://www.regulations.gov, which is the Federal e-Rulemaking Portal. Follow the instructions online for making electronic submissions.

Instructions: All submissions must include the agency's name and the docket number for this rulemaking (Docket No. OSHA-2025-0011). When uploading multiple attachments to regulations.gov, please number all of your attachments because regulations.gov will not automatically number the attachments. This will be very useful in identifying all attachments. For example, Attachment 1—title of your document, Attachment 2—title of your document, Attachment 3—title of your document. For assistance with commenting and uploading documents, please see the Frequently Asked Questions on https://www.regulations.gov.

All comments, including any personal information you provide, are placed in the public docket without change and may be made available online at https://www.regulations.gov. Therefore, OSHA cautions commenters about submitting information they do not want made available to the public, or submitting materials that contain personal information (either about themselves or others), such as Social Security Numbers and birthdates.

Docket: The docket for this rulemaking (Docket No. OSHA-2025-0011) is available at https://www.regulations.gov, the Federal eRulemaking Portal. Most exhibits are available at https://www.regulations.gov; some exhibits (e.g., copyrighted material) are not available to download from that web page. However, all materials in the dockets are available for inspection at the OSHA Docket Office.

FOR FURTHER INFORMATION CONTACT:

For press inquiries: Contact Frank Meilinger, Director, OSHA Office of Communications, Occupational Safety and Health Administration; telephone: (202) 693-1999; email: meilinger.francis2@dol.gov.

General information and technical inquiries: Contact Andrew Levinson, Director, OSHA Directorate of Standards and Guidance, Occupational Safety and Health Administration; telephone: (202) 693-1950; email: osha.dsg@dol.gov.

Copies of this Federal Register notice: Electronic copies are available at https://www.regulations.gov. This Federal Register notice, as well as news releases and other relevant information, also are available at OSHA's web page at https://www.osha.gov. A “100-word summary” is also available on https://www.regulations.gov.

SUPPLEMENTARY INFORMATION:

Table of Contents

I. Executive Summary

II. Legal Authority and Preliminary Findings

III. Events Leading to the Proposed Rule

IV. Summary and Explanation of the Proposed Requirements

V. Economic Analysis

VI. Additional Requirements

VII. Authority and Signature

VIII. Regulatory Text

I. Executive Summary

This proposed rule is intended to provide greater compliance flexibility and remove duplicative language in OSHA's Cotton Dust standard (29 CFR 1910.1043). OSHA is proposing to revise some respirator-related provisions where they are unnecessarily prescriptive, which would result in employers having greater flexibility in the respirators they select for exposed workers, while providing equivalent worker protection. This proposal is also consistent with OSHA's intent, when it published the revised Respiratory Protection standard (29 CFR 1910.134), to use it as a foundation for respirator selection in substance-specific standards.

Additionally, OSHA believes that this proposed rule appropriately incorporates advances in technology, which have made some provisions of the Cotton Dust standard outdated. This proposed standard is intended to account for modern knowledge and technology and to streamline the selection of respirators.

II. Legal Authority and Preliminary Findings

The purpose of the Occupational Safety and Health Act (29 U.S.C. 651 et seq.) (“the Act” or “the OSH Act”) is “to assure so far as possible every working man and woman in the Nation safe and healthful working conditions and to preserve our human resources” (29 U.S.C. 651(b)). To achieve this goal, Congress authorized the Secretary of Labor (“the Secretary”) to promulgate standards to protect workers, including the authority “to set mandatory occupational safety and health standards applicable to businesses affecting interstate commerce” (29 U.S.C. 651(b)(3); see also 29 U.S.C. 654(a)(2) (requiring employers to comply with OSHA standards), 29 U.S.C. 655(a) (authorizing summary adoption of existing consensus and established federal standards within two years of the Act's enactment), 29 U.S.C. 655(b) (authorizing promulgation, modification or revocation of standards pursuant to notice and comment), and 29 U.S.C. 655(b)(7) (authorizing OSHA to include among a standard's requirements labeling, monitoring, medical testing, and other information-transmittal provisions)). An occupational safety and health standard is “. . . a standard which requires conditions, or the adoption or use of one or more practices, means, methods, operations, or processes, reasonably necessary or appropriate to provide safe or healthful employment and places of employment” (29 U.S.C. 652(8)). The Secretary may also issue regulations requiring employers to keep records regarding their activities relating to the Act, as well as records of work-related deaths, injuries, and illnesses (29 U.S.C. 657(c)(1)-(2)).

Before OSHA may promulgate a health or safety standard, it must find that a standard is reasonably necessary or appropriate within the meaning of section 652(8) of the OSH Act, which OSHA did here in 1978 when it published the first Cotton Dust standard (43 FR 27394). The Supreme Court, in its decision on OSHA's benzene standard, interpreted OSHA's obligation under section 652(8) as requiring it to evaluate “whether significant risks are present and can be eliminated or lessened by a change in practices” (Indus. Union Dep't, AFL-CIO v. Am. Petroleum Inst., 448 U.S. 607, 642 (1980) (plurality opinion)). OSHA determined that cotton dust presented a significant risk to employees when it first promulgated the standard (43 FR 27350). When, as here, OSHA has previously determined that its standard substantially reduces a significant risk, it is unnecessary for the agency to make additional findings on risk for every provision of that standard (see, e.g., Pub. Citizen Health Research Grp. v. Tyson, 796 F.2d 1479, 1502 n.16 (D.C. Cir. 1986) (rejecting the argument that OSHA must “find that each and every aspect of its standard eliminates a significant risk”)). Rather, once OSHA makes a general significant risk finding in support of a standard, the next question is whether a particular requirement is reasonably related to the purpose of the standard as a whole (see Asbestos Info. Ass'n/N. Am. v. Reich, 117 F.3d 891, 894 (5th Cir. 1997); Forging Indus. Ass'n v. Sec'y of Labor, 773 F.2d 1436, 1447 (4th Cir. 1985); United Steelworkers of Am., AFL-CIO-CLC v. Marshall, 647 F.2d 1189, 1237-38 (D.C. Cir. 1980) (“Lead I”)). Therefore, while OSHA is not making a preliminary finding of significant risk for this proposed rule, the agency has made a preliminary determination that the proposed changes are reasonably related to the purpose of the Cotton Dust standard as a whole.

A standard is technologically feasible if the protective measures it requires already exist, can be brought into existence with available technology, or can be created with technology that is reasonably expected to be developed (see Am. Iron and Steel Inst. v. OSHA, 939 F.2d 975, 980 (D.C. Cir. 1991)). Courts have also interpreted technological feasibility to mean that a typical firm in each affected industry or application group will reasonably be able to implement the requirements of the standard in most operations most of the time (see, e.g., Public Citizen v. OSHA, 557 F.3d 165, 170-71 (3d Cir. 2009) (citing Lead I at 1272)).

This proposed rule would not substantially modify existing requirements for respiratory protection in workplaces; nor would it create new requirements. All employers in compliance with the existing standard would also be in compliance with the revised standard. Therefore, OSHA has made a preliminary determination that the proposed rule would be technologically feasible.

In evaluating economic feasibility, OSHA must consider the average cost of compliance in an industry rather than costs for individual employers. In its economic analyses, OSHA “must construct a reasonable estimate of compliance costs and demonstrate a reasonable likelihood that these costs will not threaten the existence or competitive structure of an industry, even if it does portend disaster for some marginal firms” (Am. Iron and Steel Inst., 939 F.2d at 980, quoting Lead I at 1272). OSHA has made a preliminary finding that this proposal is economically feasible because it is deregulatory and is expected to reduce costs for employers. OSHA's economic analysis is presented in Section V.

The Administrative Procedures Act directs agencies to include in each rule adopted “a concise general statement of [the rule's] basis and purpose” (5 U.S.C. 553(c)); cf. 29 U.S.C. 655(e) (requiring the Secretary to publish a “statement of reasons” for any standard promulgated)). This notice satisfies this concise statement requirement.

III. Events Leading to the Proposed Rule

OSHA adopted a Cotton Dust standard in 1978 (43 FR 27394). OSHA also has a general Respiratory Protection standard, 29 CFR 1910.134, which it first promulgated in 1971 (39 FR 9835). OSHA published a revised Respiratory Protection standard on January 8, 1998 (63 FR 1152). The Respiratory Protection standard contains worksite-specific requirements for program administration, as well as procedures for respirator selection, employee training, fit testing, medical evaluation, and respirator use, among other provisions. OSHA noted that the revised standard was to “serve as a ‘building block’ standard with respect to future standards that may contain respiratory protection requirements” (63 FR 1265). In 2006, OSHA revised the Respiratory Protection standard again to incorporate assigned protection factors (APFs) in the respirator selection process (71 FR 50122-01).

Several OSHA standards regulating exposure to toxic substances and harmful physical agents, including the Cotton Dust standard, require compliance with many provisions of 29 CFR 1910.134. However, when revising the respirator rule, the Agency decided to retain several special respirator selection provisions in the existing substance-specific standards. In this regard, OSHA noted that the respirator selection requirements retained in the substance-specific standards were developed in rulemakings to provide protection against a hazardous characteristic or condition unique to the regulated substance. Consequently, OSHA felt that preserving these provisions in the individual substance-specific standards would maintain the level of respiratory protection afforded to employees.

In this proposal, OSHA is revisiting some of those determinations; the agency now believes that there are additional ways that substance-specific standards can rely on 29 CFR 1910.134 without compromising employee safety. The purpose of revising the respirator-related provisions of OSHA's Cotton Dust standard is to conform them, to the extent possible, with other substance-specific standards and to the revised 29 CFR 1910.134 in general. The proposed updates would improve the Cotton Dust standard by removing unnecessarily specific respirator requirements that have, since OSHA last updated the standard, become outdated based on current technology, NIOSH certification requirements, and knowledge about respirator technology. This revised standard is intended to take account of new knowledge and technology.

OSHA expects that the rule would ultimately reduce the compliance burden on the regulated community, without compromising worker safety. Therefore, OSHA believes this proposed rule is consistent with Executive Order (E.O.) 14219, “Ensuring Lawful Governance and Implementing the President's ‘Department of Government Efficiency’ Deregulatory Initiative,” E.O. 14192, “Unleashing Prosperity Through Deregulation,” and the goal of removing regulations that harm the national interest by impeding technological innovation or private enterprise and entrepreneurship.

IV. Summary and Explanation of the Proposed Requirements

OSHA is proposing to revise paragraph (f) of its general industry Cotton Dust standard (29 CFR 1910.1043) to reduce compliance burdens, allow for the use of more up-to-date technology, and improve the comprehensibility of the requirements for respiratory protection programs. These revisions would simplify compliance for employers by removing requirements in 1910.1043 that are duplicative with the requirements in 1910.134 and updating respirator requirements to align with the revised NIOSH certification criteria in 42 CFR part 84. The proposed revisions would also provide more compliance options by removing unnecessary restrictions on respirator selection where another equally protective option exists. Finally, these revisions would also conform this standard, to the extent possible, to other substance-specific standards and to 29 CFR 1910.134, which would simplify review of these regulations and improve comprehensibility. The Agency preliminarily concludes, therefore, that updating these rules is consistent with the goal of facilitating technological innovation and reducing undue burden.

OSHA has preliminarily determined that paragraphs (f)(1)(i) through (iii) unnecessarily duplicate the general provisions covered by 1910.134(a) and is proposing to remove and reserve those paragraphs and add a cross reference to 1910.134(a) in paragraph (f)(1). Employers in compliance with the current version of 1910.1043(f)(1) would not have to change any of their practices to remain in compliance with the changes OSHA is proposing.

Additionally, OSHA is proposing to revise paragraph (f)(3)(i)(A) to remove the prohibition on using filtering facepieces at cotton dust concentrations more than five times the PEL and to allow employees to use any respirator selected in accordance with paragraph (d)(3)(i)(A) of 29 CFR 1910.134. OSHA has preliminarily determined that the prohibition on filtering facepieces was based on outdated technology and certification data and the use of filtering facepieces will not reduce worker safety and health. OSHA is also proposing to remove paragraph (f)(3)(i)(B), which requires HEPA filters for powered and non-powered air-purifying respirators used at cotton dust concentrations greater than ten times the PEL. That requirement was included because HEPA filters were originally part of NIOSH's certification standards for respirators under 30 CFR part 11. However, NIOSH published revised requirements for testing and certification procedures and recodified the previous certification standards for other respirator classes as 42 CFR part 84 on June 8, 1995 (60 FR 30336). The HEPA filter requirement is not part of the revised 42 CFR part 84 anymore because additional types of filters have been certified for protection from particulates. OSHA believes that these testing and certification requirements ensure that all particulate filters certified under 42 CFR part 84 are efficient in preventing the penetration of submicron-sized particles and OSHA recognized this when the Agency's revised Respiratory Protection standard was issued on January 8, 1998 (63 FR 1152). In fact, OSHA has issued other substance-specific regulations since the revised Respiratory Protection standard and NIOSH's revised certification requirements were issued and has not incorporated a requirement for HEPA filters in similar respirator provisions in those rules.

OSHA is also considering removing the requirement under paragraph (f)(1)(v) to provide a respirator when an employee requests it. Similarly, OSHA is considering removing the requirement in paragraph (f)(3)(ii) for employers to provide an employee with a powered air-purifying respirator (PAPR) instead of a non-powered air-purifying respirator when the employee chooses to use a PAPR. OSHA believes that the removal of these provisions would not compromise worker safety and health—both provisions are about employee requests and without them workers would still be provided adequate protection. When OSHA updated the Respiratory Protection standard, it determined that it was appropriate to allow an employer to provide additional respiratory protection when requested, rather than mandate it (29 CFR 1910.134(c)(2)). Removing these requirements in the Cotton Dust standard would still allow for voluntary respirator use under some circumstances (i.e., where the employer agrees to provide the equipment) and would better align with the general Respiratory Protection standard. However, the Agency acknowledges that user comfort affects workers' compliance with requirements to wear respiratory protection and questions whether the existing requirements under 1910.134(c)(2) and Table 1 offer equivalent access to alternative styles of respiratory protection. OSHA also understands that some employees may have come to rely on respiratory protection from cotton dust at work, even when the standard does not require it. OSHA therefore seeks comment on the merits of removing these provisions.

OSHA recognizes that adopting these revisions will also result in the revision of the respiratory protection requirements in OSHA's marine terminals and longshoring standards for cotton dust (see 29 CFR 1917.1 and 29 CFR 1918.1, which apply the requirements in 1910.1043 to longshoring and marine terminals). OSHA requests comment regarding whether there are any considerations that are unique to the use of respirators for protection against cotton dust hazards in marine terminals or longshoring, that OSHA should consider when finalizing this proposal.

OSHA requests comments on this proposal, including responses regarding the following issues:

1. Are there any concerns that making the changes described in this proposal will decrease worker safety? If so, which changes do you think would decrease worker safety and why?

2. Is there an alternative approach OSHA should consider?

3. Should OSHA remove the requirements for employers to provide PAPRs when they are requested by employees? In your experience, how often do employees request PAPRs when the Cotton Dust standard does not require them?

4. Should OSHA remove the requirement for employers to provide respirators when requested by an employee? In your experience, how often do employees request to use respirators when the Cotton Dust standard does not require them?

5. Should OSHA maintain the prohibition on using filtering facepiece respirators at cotton dust concentrations more than five times the PEL?

6. Does cross-referencing 29 CFR 1910.134(a) in 1910.1043(f)(1) correctly capture all of the material that was previously specified in paragraphs (f)(1)(i)-(iii) of 1910.1043?

V. Economic Analysis

This proposed rule would expand compliance options for employers under the Cotton Dust standard, 29 CFR 1910.1043, and therefore OSHA has preliminarily concluded that there would be no additional costs imposed by this proposed revision. OSHA also anticipates that there would be some cost savings associated with this rule, including savings based on employers being able to choose more cost-effective respirators and a reduction of the burdens associated with reviewing unnecessarily duplicative regulations. Because this rule would impose no new costs, OSHA has made a preliminary determination that the rule would be economically feasible.

Based on the Supporting Statement for the Information Collection Request for the Cotton Dust standard, OSHA estimates that there are 3,810 employees exposed to cotton dust in the U.S.¹ This proposed rule would, among other things, allow employers to provide filtering facepiece respirators for exposures up to 10 times the permissible exposure limit (PEL), which would result in employers being able to select a more cost-effective respirator in some cases. For instance, OSHA estimates that a 3M 5000 Series half mask respirator, replaced annually, a 3M P100 particulate filter replaced every 40 hours of use (assumed to be weekly), and one cleaning wipe per shift results in an estimated per-use cost of $1.72. A 3M industrial N95 filtering facepiece respirator costs $1.15 and is assumed to be used for one shift.² Switching to the N95 filtering facepiece respirator would result in a difference of about $0.57 per use or $142 per employee per year (assuming an employee works 5 shifts per week, 50 weeks per year) ($429.50 versus $287.50 per employee per year).

¹ See Document ID OSHA-2011-0194-0014 for additional detail.

² All prices based on those listed on uline.com, May 30, 2025.

OSHA does not currently have sufficient information to quantify how many of the exposed employees would use an N95 filtering facepiece respirator under the changes proposed in this rule. However, if 50 percent of the exposed employees were to use the N95 filtering facepiece respirators instead of the 3M 5000 Series half mask respirators, that could result in a savings, based on equipment alone, of approximately $270,510 annually (or about $2 million over 10 years at a 3 percent discount rate).

OSHA is seeking comments and data on this preliminary analysis, including on the following questions:

1. How much do employers expect to save based on the increased flexibility in respirator selection?

a. How many employees would employers expect to use filtering facepiece respirators instead of a different respirator under the proposed revisions?

b. Are there cost savings associated with no longer being restricted to HEPA filters for powered and non-powered air-purifying respirators?

2. Are there any other savings for employers that would result from the proposed change?

3. Are there any benefits for worker protection that can be anticipated from this proposed change?

4. How much familiarization time would employers who are new entrants to the market expect to save based on the revisions?

5. Are there any costs for employers that would result from this change that OSHA has not considered?

6. Would the savings to employers outside of general industry be similar to what OSHA has estimated for general industry employers?

A. Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

OSHA reviewed this proposed rule under the provisions of the Regulatory Flexibility Act. This rule would eliminate burdensome regulations. Therefore, OSHA initially concludes that the impacts of the revisions would not have a “significant economic impact on a substantial number of small entities,” and that the preparation of an IRFA is not warranted. OSHA will transmit this certification and supporting statement of factual basis to the Chief Counsel for Advocacy of the Small Business Administration for review under 5 U.S.C. 605(b).

B. Review Under Executive Order 12866

E.O. 12866, “Regulatory Planning and Review” (58 FR 51735 (Oct. 4, 1993)), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to the Office of Information and Regulatory Affairs (OIRA) for review. OIRA has determined that this proposed rule would not constitute a “significant regulatory action” under section 3(f) of E.O. 12866. Accordingly, this proposal was not submitted to OIRA for review under E.O. 12866.

VI. Additional Requirements

A. Requirements for States With OSHA-Approved State Plans

Under section 18 of the OSH Act (29 U.S.C. 651 et seq.), Congress expressly provides that States may adopt, with Federal approval, a plan for the development and enforcement of occupational safety and health standards that are “at least as effective” as the Federal standards in providing safe and healthful employment and places of employment (29 U.S.C. 667). OSHA refers to these OSHA-approved, State-administered occupational safety and health programs as “State Plans.” ³

³ Of the 29 States and U.S. territories with OSHA-approved State Plans, 22 cover public and private-sector employees: Alaska, Arizona, California, Hawaii, Indiana, Iowa, Kentucky, Maryland, Michigan, Minnesota, Nevada, New Mexico, North Carolina, Oregon, Puerto Rico, South Carolina, Tennessee, Utah, Vermont, Virginia, Washington, and Wyoming. The remaining six States and one U.S. territory cover only State and local government employees: Connecticut, Illinois, Maine, Massachusetts, New Jersey, New York, and the Virgin Islands.

When Federal OSHA promulgates a new standard or a more stringent amendment to an existing standard, State Plans must either amend their standards to be identical to, or “at least as effective as,” the new Federal standard or amendment, or show that an existing State Plan standard covering this issue is “at least as effective” as the new Federal standard or amendment (29 CFR 1953.5(a)). However, when OSHA promulgates a new standard or amendment that does not impose additional or more stringent requirements than an existing standard, State Plans do not have to amend their standards, although they may opt to do so. OSHA has preliminarily determined this proposed rule does not impose additional or more stringent requirements than the existing standard, and therefore State Plans are not required to amend their standards. OSHA seeks comment on this assessment of its proposal.

B. OMB Review Under the Paperwork Reduction Act of 1995

The Paperwork Reduction Act (PRA) defines “collection of information” to mean “the obtaining, causing to be obtained, soliciting, or requiring the disclosure to third parties or the public, of facts or opinions by or for an agency, regardless of form or format” (44 U.S.C. 3502(3)(A)). Under the PRA, a Federal agency cannot conduct or sponsor a collection of information unless it is approved by OMB under the PRA and the agency displays a currently valid OMB control number (44 U.S.C. 3507). Also, notwithstanding any other provisions of law, no person shall be subject to penalty for failing to comply with a collection of information if the collection of information does not display a currently valid OMB control number (44 U.S.C. 3512(a)(1)). The process for OMB approval is found in 5 CFR part 1320.

This proposed rule would impose no new information collection requirements. Because the revisions are deregulatory and affect only minor changes to the existing information collections in the Cotton Dust standard (OMB Control Number 1218-0061), OMB has waived the requirements of 5 CFR part 1320 and approved the modified Information Collection Request (ICR) under existing OMB Control Number 1218-0061 (see 5 CFR 1320.18(d)).

C. Environmental Impacts/National Environmental Policy Act (NEPA)

OSHA has reviewed this proposed rule according to the National Environmental Policy Act of 1969 (NEPA) (42 U.S.C. 4321 et seq.), as amended by the Fiscal Responsibility Act of 2023 (Pub. L. 118-5, 321, 137 Stat. 10), and the Department of Labor's NEPA procedures (29 CFR part 11). OSHA has determined that this proposal would have no impact on the quality of the human environment.

D. Other Statutory and Executive Order Considerations

OSHA has considered its obligations under the Unfunded Mandates Reform Act (UMRA) (2 U.S.C. 1501 et seq.) and the Executive Orders on Consultation and Coordination With Indian Tribal Governments (E.O. 13175, 65 FR 67249 (Nov. 6, 2000)), Federalism (E.O. 13132, 64 FR 43255 (Aug. 10, 1999)), and Protection of Children From Environmental Health Risks and Safety Risks (E.O. 13045, 62 FR 19885 (Apr. 23, 1997)). Given that this is a proposed deregulatory action that involves the removal of requirements, that OSHA does not foresee economic impacts of $100 million or more, and that the action does not constitute a policy that has federalism or tribal implications, OSHA has determined that no further agency action or analysis is required to comply with these statutes and executive orders. Furthermore, OSHA has determined that this proposal is consistent with the policies and directives outlined in E.O. 14192, “Unleashing Prosperity Through Deregulation” and is an Executive Order 14192 deregulatory action.

List of Subjects in 29 CFR Part 1910

Airborne contaminants, Health, Occupational safety and health, Respirators, Respirator selection.

VII. Authority and Signature

This document was prepared under the direction of Amanda Laihow, Acting Assistant Secretary of Labor for Occupational Safety and Health. It is issued under the authority of sections 4, 6, and 8 of the Occupational Safety and Health Act of 1970 (29 U.S.C. 653, 655, and 657), 5 U.S.C. 553, Secretary of Labor's Order No. 8-2020 (85 FR 58393), and 29 CFR part 1911.

Dated: June 20, 2025.
Amanda Laihow,
Acting Assistant Secretary of Labor for Occupational Safety and Health.

VIII. Regulatory Text

Proposed Amendments

For the reasons set forth in the preamble, OSHA is amending 29 CFR part 1910 as follows:

PART 1910—OCCUPATIONAL SAFETY AND HEALTH STANDARDS

Subpart Z—Toxic and Hazardous Substances

1. The authority for 29 CFR 1910 subpart Z is revised to read as follows:

Authority: 33 U.S.C. 941; 29 U.S.C. 653, 655, 657; Secretary of Labor's Order No. 12-71 (36 FR 8754), 8-76 (41 FR 25059), 9-83 (48 FR 35736), 1-90 (55 FR 9033), 6-96 (62 FR 111), 3-2000 (65 FR 50017), 5-2002 (67 FR 65008); 5-2007 (72 FR 31160), 4-2010 (75 FR 55355), 1-2012 (77 FR 3912), or 8-2020 (85 FR 58393); 29 CFR part 1911; and 5 U.S.C. 553, as applicable.

All of subpart Z issued under 29 U.S.C. 655(b), except those substances that have exposure limits listed in Tables Z-1, Z-2, and Z-3 of § 1910.1000. The latter were issued under 29 U.S.C. 655(a).

Section 1910.1000, Tables Z-1, Z-2 and Z-3 also issued under 5 U.S.C. 553, but not under 29 CFR part 1911 except for the arsenic (organic compounds), benzene, cotton dust, and chromium (VI) listings.

Section 1910.1001 also issued under 40 U.S.C. 3704 and 5 U.S.C. 553.

Section 1910.1002 also issued under 5 U.S.C. 553, but not under 29 U.S.C. 655 or 29 CFR part 1911.

Sections 1910.1018, 1910.1029, and 1910.1200 also issued under 29 U.S.C. 653.

Section 1910.1030 also issued under Public Law 106-430, 114 Stat. 1901.

Section 1910.1201 also issued under 49 U.S.C. 1801-1819 and 5 U.S.C. 553.

2. § 1910.1043 is revised as follows:

a. Revise and republish paragraph (f)(1) and (f)(3).

b. Reserve paragraphs (f)(1)(i)-(iii).

c. Remove paragraphs (f)(3)(i)(A) and (B).

The revisions and additions read as follows:

(f) * * *

(1) General. For employees who are required to use respirators by this section, the employer must provide each employee an appropriate respirator that complies with the requirements of this paragraph. Respirators must be used when the employer determines that it is necessary to protect the health of an employee as required under 29 CFR 1910.134(a) and during:

(i) [Reserved]

(ii) [Reserved]

(iii) [Reserved]

(iv) Work operations specified under paragraph (g)(1) of this section.

(v) Periods for which an employee requests a respirator.

(2) * * *

(3) * * *

(i) Employers must select, and provide to employees, the appropriate respirators specified in paragraph (d)(3)(i)(A) of 29 CFR 1910.134.

(ii) * * *

* * * * *

[FR Doc. 2025-11637 Filed 6-30-25; 8:45 am]

BILLING CODE 4510-26-P